DEPARTMENT OF AGRICULTURE

Natural Resources Conservation Service

Notice of Proposed Change to Section 4 of the Alaska State Technical Guide

AGENCY: Natural Resources Conservation Service (NRCS), U.S. Department of Agriculture.

ACTION: Notice of availability of proposed changes in the Alaska NRCS State Technical Guide for review and comment.

SUMMARY: It has been determined by the NRCS State Conservationist for Alaska that changes must be made in the NRCS State Technical Guide specifically in practice standard 590, Nutrient Management to account for improved technology. This practice can be used in systems that include additions of organic and non-organic plant nutrients.

DATES: Comments will be received on or before May 21, 2001.

FOR FURTHER INFORMATION CONTACT: Chuck Bell, State Conservationist, Natural Resources Conservation Service, 800 West Evergreen, Palmer, Alaska, 99645; phone (907) 761-7760; or FAX (907) 761-7790.

SUPPLEMENTARY INFORMATION: If you would like to review the Nutrient Management practice standard in view of making comments, contact Chuck Bell at the above address or phone number to receive a copy of the draft standard.

For the next 30 days the NRCS will receive comments relative to the proposed changes. Following that period a determination will be made by the NRCS regarding disposition of those comments and a final determination of change will be made to the subject standard.

Dated: April 13, 2001.
Chuck Bell,
State Conservationist, Alaska.

[FR Doc. 01-9803 Filed 4-19-01; 8:45 am]

BILLING CODE 3410-16-P